ENVIRONMENTAL PROTECTION AGENCY

[EPA-R10-CERCLA-10-2015-0134; FRL-9936-44-Region-10]

Proposed CERCLA Administrative Cost Recovery Settlement; Ashue Road Site, Wapato, Yakima County, WA

AGENCY: Environmental Protection Agency (EPA).

ACTION: Notice; request for public comment.

SUMMARY: In accordance with Section 122(i) of the Comprehensive Environmental Response, Compensation and Liability Act, as amended (CERCLA), 42 U.S.C. 9622(i), notice is hereby given of a proposed administrative settlement for recovery of response costs incurred for the Ashue Road Site located at Section 17, Township 11, Range 19 in Wapato, Yakima County, Washington. Under this proposed settlement, the settling parties are Groat Bros., Inc., T.W. Clark Construction, LLC, and the Wapato School District No. 207. The proposed settlement requires the settling parties to pay $95,000 to the Environmental Protection Agency Hazardous Substance Superfund. Upon payment of this sum to Environmental Protection Agency (EPA), the settling parties will be released from their obligations for payments to EPA for costs EPA incurred at the Site prior to the effective date of the proposed settlement.

For 30 days following the date of publication of this notice, the EPA will receive written comments relating to the proposed settlement. The EPA will consider all comments received and may modify or withdraw its consent to the settlement if comments received disclose facts or considerations which indicate that the settlement is inappropriate, improper, or inadequate. The EPA's response to any comments received will be available for public inspection at the U.S. EPA Region 10 Office, located at 1200 Sixth Avenue, Seattle, Washington 98101.

DATES: Comments must be received on or before December 2, 2015.

ADDRESSES: Submit your comments, identified by Docket ID No. EPA-R10-CERCLA-10-2015-0134, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Ted Yackulic, Assistant Regional Counsel, Office of Regional Counsel, Mail Stop ORC-113, Environmental Protection Agency, 1200 Sixth Avenue, Suite 900, Seattle, Washington 98101; telephone number: (206) 553-1218; fax number: (206) 553-1762; email address: yackulic.ted@epa.gov.

SUPPLEMENTARY INFORMATION:

I. General Information

The ASHUE ROAD SITE is located at Section 17, Township 11, Range 19 in Wapato, Yakima County, WA, and is located on fee property within the reservation for the Yakama Nation. The Site covers approximately 2.46 acres. There is a residential home within the Site. The area surrounding the Site supports agricultural and residential uses. During 2012 a portion of the Wapato High School in Wapato, Washington was demolished. The Wapato School District No. 207 engaged T.W. Clark Construction, LLC as the general contractor for the demolition work. T.W. Clark Construction, LLC hired Groat Bros., Inc. as sub-contractor for performing demolition work and transporting demolition materials from the High School. The demolition work included the demolition of materials that contained asbestos. A portion of materials generated during the Wapato High School demolition project were transported to the Site for disposal. The Site is not licensed by the State of Washington, Yakima County, or the Yakama Nation to receive demolition materials or materials that contain hazardous substances for disposal. EPA conducted a field investigation of the Site on October 5, 2012. EPA's investigation revealed the presence of asbestos in the demolished materials disposed of at the Site. Asbestos is a hazardous substance. EPA oversaw the performance of a removal action at the Site by T.W. Clark Construction, LLC, and Groat Bros. Inc. The removal action involved the excavation and off-Site disposal of the high school demolition wastes. EPA incurred approximately $311,330.96 performing or overseeing the performance of response costs at the Site. Pursuant to the terms of the CERCLA Section 122(h)(1) Settlement Agreement for Recovery of Response Costs, the settling parties will pay EPA $95,000. In return for the payment of this amount, EPA covenants not to sue the settling parties for past response costs—response costs incurred by EPA prior to the effective date of the Settlement Agreement—at the Site. In the event that EPA continues to incur response costs at the Site, EPA's covenant not to sue does not include costs incurred by EPA after the effective date of the Settlement Agreement.

Dated: October 15, 2015.
Chris D. Field,
Manager, Emergency Management Program, EPA Region 10.

[FR Doc. 2015-27885 Filed 10-30-15; 8:45 am]

BILLING CODE 6560-50-P